COUNCIL ON ENVIRONMENTAL QUALITY

40 CFR Parts 1500, 1501, 1502, 1503, 1504, 1505, 1506, 1507, and 1508

[CEQ-2025-0002]

RIN 0331-AA10

Removal of National Environmental Policy Act Implementing Regulations

AGENCY: Council on Environmental Quality.

ACTION: Interim final rule; correction.

SUMMARY: This document corrects the words of issuance in the interim final rule published by the Council on Environmental Quality (CEQ) in the Federal Register of February 25, 2025, regarding the removal of CEQ's regulations implementing the National Environmental Policy Act from the Code of Federal Regulations.

DATES: Effective April 11, 2025.

FOR FURTHER INFORMATION CONTACT: Megan Healy, Principal Deputy Director for NEPA, 202-395-5750, Megan.E.Healy@ceq.eop.gov.

SUPPLEMENTARY INFORMATION:

Correction

In rule document 2025-03014, appearing on page 10610 through 10616 in the Federal Register of Tuesday, February 25, 2025, the following correction is made:

On page 10616, in the third column, in the last paragraph, the words of issuance “For the reasons stated in the preamble, the Council on Environmental Quality amends subchapter A of chapter V in title 40 of the Code of Federal Regulations by removing and reserving parts 1500, 1501, 1502, 1503, 1504, 1505, 1506, 1507, and 1508” are corrected to read “For the reasons stated in the preamble, and under the authority of 42 U.S.C. 4321-4347; E.O. 14154, 90 FR 8353 (Jan. 29, 2025), the Council on Environmental Quality amends subchapter A of chapter V in title 40 of the Code of Federal Regulations by removing and reserving parts 1500, 1501, 1502, 1503, 1504, 1505, 1506, 1507, and 1508.”

Jomar Maldonado Vazquez,
Director for NEPA.

[FR Doc. 2025-04640 Filed 3-18-25; 8:45 am]

BILLING CODE 3325-FC-P